DEPARTMENT OF TRANSPORTATION

Pipeline and Hazardous Materials Safety Administration

Office of Hazardous Materials Safety; Notice of Application for Special Permits

AGENCY: Pipeline and Hazardous Materials Safety Administration (PHMSA), DOT.

ACTION: List of Applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 17, 2011.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC, or at http://regulations.gov.

This notice of receipt of applications for special permit is published in accordance with part 107 of the Federal hazardous materials transportation law (49 U.S.C. 5117(b); 49 CFR 1.53(b)).

Issued in Washington, DC on January 10, 2011.
Donald Burger,
Chief, Special Permits and Approvals Branch.

New Special Permits
Application No. | Docket No. | Applicant | Regulation(s) affected | Nature of special permit thereof
15206-N |  | Maxwell Technologies, San Diego, CA | 49 CFR 171.101(c)(1) | To allow the transportation in commerce electric double layer capacitors with an energy storable capacity of not more than 10Wh (modes 1, 2, 3, 4, 5, 6).
15207-N |  | Nippon Cargo Airlines, Chiba, JP | 49 CFR 173.302a(a)(1); 173.304a(a)(2); 175.3 | To authorize the transportation in commerce of certain non-DOT specification containers containing certain Division 2.3 material to be used in connection with spacecraft containing heat pipes.
15209-N |  | Southern California Edison, San Clemente, CA | 49 CFR 173.427(b)(1); 173.465(c); 173.465(d) | To authorize the transportation in commerce of steam generator lower assembles that exceed the surface contamination limits for surface contaminated objects.

[FR Doc. 2011-830 Filed 1-14-11; 8:45 am]

BILLING CODE 4909-60-M